SECURITIES AND EXCHANGE COMMISSION

Sunshine Act Meeting

Federal Register Citation of Previous Announcement:

[69 FR 42471, July 15, 2004].

Status: Closed Meeting.

Place: 450 Fifth Street, NW., Washington, DC.

Date and Time of Previously Announced Meeting: Tuesday, July 20, 2004 at 2 p.m.

Change in the Meeting: Cancellation of Meeting.

The Closed Meeting scheduled for Tuesday, July 20, 2004 has been cancelled. Items scheduled for this meeting will be heard at the July 22, 2004 Closed Meeting.

For further information please contact the Office of the Secretary at (202) 942-7070.

Dated: July 19, 2004.
Jonathan G. Katz,
Secretary.

[FR Doc. 04-16784 Filed 7-19-04; 4:20 pm]

BILLING CODE 8010-01-P